DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before March 6, 2023.

ADDRESSES: You may submit comments identified by Docket No. MSHA-2023-0005 by any of the following methods:

1. Federal eRulemaking Portal: https://www.regulations.gov. Follow the instructions for submitting comments for MSHA-2023-0005.

2. Fax: 202-693-9441.

3. Email: petitioncomments@dol.gov.

4. Regular Mail or Hand Delivery: MSHA, Office of Standards, Regulations, and Variances, 201 12th Street South, Suite 4E401, Arlington, Virginia 22202-5452.

Attention: S. Aromie Noe, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, 30 CFR 44.10 and 44.11 establish the requirements for filing petitions for modification.

II. Petition for Modification

Docket Number: M-2022-038-C.

Petitioner: Greenbrier Minerals LLC, 119 Rich Creek Rd., Lyburn, West Virginia 25632.

Mines: Eagle No. 1 Mine, MSHA ID No. 46-09563, located in Logan County, West Virginia.

Lower War Eagle, MSHA ID No. 46-09319, located in Wyoming County, West Virginia.

Muddy Bridge, MSHA ID No. 46-09514, located in Logan County, West Virginia.

North Fork Winifrede Deep, MSHA ID No. 46-09583, located in Logan County, West Virginia.

Powellton #1 Mine, MSHA ID No. 46-09217, located in Logan County, West Virginia.

Toney Fork Surface Mine, MSHA ID No. 46-09101, located in Logan County, West Virginia.

Elklick Surface, MSHA ID No. 46-09564, located in Logan County, West Virginia.

Saunders Preparation Plant, MSHA ID No. 46-02140, located in Logan County, West Virginia.

Elk Lick Tipple, MSHA ID No. 46-04315, located in Logan County, West Virginia.

Regulation Affected: 30 CFR 75.500(d), Permissible electric equipment.

Modification Request: The petitioner requests a modification of 30 CFR 75.500(d) to permit the use of the CleanSpace EX Powered Respirator, a nonpermissible battery powered air-purifying respirator (PAPR), taken into or inby the last open crosscut.

The petitioner states that:

(a) Currently, there are no PAPRs that are approved by MSHA as permissible. PAPRs provide a constant flow of filtered air and offer respiratory protection and comfort in hot working environments.

(b) The CleanSpace EX Powered Respirator (CleanSpace EX) is UL certified to the ANSI/UL 60079-11 standard and can be used in hazardous locations because it meets the ANSI/UL 60079-11 standard's intrinsic safety protection level. It is accepted in other jurisdictions for use in mines with the potential for methane accumulation. The product is not MSHA approved, and the manufacturer is not pursuing approval. The ANSI/UL 60079-11 standard for the certification of these respirators is an accepted alternative to MSHA's standards and provides the same level of protection to miners as such standards.

(c) The CleanSpace EX uses lithium-ion polymer battery that is neither accessible nor removable. The lithium-ion polymer battery and motor/blower assembly are both contained within the sealed power pack assembly. It charges as a complete unit.

The petitioner proposes the following alternative method:

(a) Affected mine employees shall be trained in the proper use and maintenance of the CleanSpace EX in accordance with the established manufacturer guidelines. Mine employees shall also be trained to inspect the unit before each use to determine if there is any damage or defect to the unit that would negatively impact intrinsic safety. This inspection shall include all associated wiring and connections and shall take place prior to the equipment being taken underground.

(b) If it is determined that there is damage that may negatively impact intrinsic safety, the PAPR shall be immediately removed from service.

(c) CleanSpace EX units shall be charged outby the last open crosscut and shall utilize the manufacturer-approved battery charger. CleanSpace EX charging stations located underground shall be enclosed in a properly constructed steel box designed for such purpose.

(d) A qualified person under 30 CFR 75.151 shall monitor for methane as is required by the standard in the affected areas of the mine.

(e) The operator shall comply with all requirements of 30 CFR 75.323. The CleanSpace EX shall not be used if methane is detected in concentrations at or above 1.0 percent. When 1.0 percent or more methane is detected while the CleanSpace EX is being used, the equipment shall be deenergized immediately. When 1.5 percent or more methane is detected, the CleanSpace EX shall be withdrawn from the affected area outby the last open crosscut.

(f) Employees shall be trained all stipulations of the Decision and Order. Qualified miners shall receive training regarding the information in the Decision and Order before using equipment in the relevant part of the mine. A record of training shall be kept and made available upon request.

(g) Within 60 days of the Decision and Order becoming finalized, the petitioner shall submit proposed revisions to the mine ventilation plan per 30 CFR 75.370, to be approved under the 30 CFR part 48 training plan by the District Manager. The revisions shall specify initial and refresher training. When the training is conducted, an MSHA Certificate of Training (Form 5000-23) shall be completed, with comments on the certificate noting non-permissible testing equipment training.

The petitioner asserts that the alternative method proposed will at all times guarantee no less than the same measure of protection afforded the miners under the mandatory standard.

Song-ae Aromie Noe,
Director, Office of Standards, Regulations, and Variances.

[FR Doc. 2023-02266 Filed 2-2-23; 8:45 am]

BILLING CODE 4520-43-P